DEPARTMENT OF COMMERCE

Patent and Trademark Office

Patent and Trademark Resource Centers Metrics

ACTION: Proposed collection; comment request.

SUMMARY: The United States Patent and Trademark Office (USPTO), as part of its continuing effort to reduce paperwork and respondent burden, invites the general public and other Federal agencies to take this opportunity to comment on this information collection, as required by the Paperwork Reduction Act of 1995, Public Law 104-13 (44 U.S.C. 3506(c)(2)(A)).

DATES: Written comments must be submitted on or before January 16, 2015.

ADDRESSES: You may submit comments by any of the following methods:

• Email: InformationCollection@uspto.gov. Include “Patent and Trademark Resource Centers Metrics comment” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to the attention of Chris Kitchens, Manager, Patent and Trademark Resource Center Program, Office of the Chief Information Officer, United States Patent and Trademark Office, P.O. Box 1451, Alexandria, VA 22313-1451, by telephone at 571-272-5750, or by email to Christine.Kitchens@uspto.gov. Additional information about this collection is also available at http://www.reginfo.gov under “Information Collection Review.”

SUPPLEMENTARY INFORMATION:

I. Abstract

Patent and Trademark Resource Centers (PTRCs) are a nationwide network of public, state and academic libraries that are designated by the USPTO to disseminate patent and trademark information and to support the diverse intellectual property needs of the public. Accessing the patent and trademark information at a PTRC with the help of a trained specialist, allows the public to determine if someone else has already patented an invention or obtained a federal registration for a trademark on goods or services.

Recognition as a PTRC is authorized under the provisions of 35 U.S.C. 2(a)(2), which provides that the USPTO shall be responsible for disseminating to the public information with respect to patents and trademarks. In order to be designated as a PTRC, libraries must fulfill the following requirements: (1) Assist the public in the efficient use of patent and trademark information resources; (2) provide free access to patent and trademark resources provided by the USPTO; (3) provide metrics on the use of patent and trademark services provided by the member library as stipulated by the USPTO; (4) provide metrics on outreach efforts conducted by the member library as stipulated by the USPTO; and (5) send representatives to attend the USPTO-hosted PTRC training seminars.

Since the PTRC requirements stipulate that the participating libraries must submit metrics in order to be designated as a PTRC, the USPTO is submitting this information collection for review under the PRA. The information collected enables the USPTO to more effectively train the PTRC staff who, in turn, provide assistance and training to public customers in the areas of patent and trademarks. As the PTRCs continue to move away from the physical distribution of hard copy information, the USPTO is interested in what types of electronic services the PTRC of the future should offer its customers. Collection of this information enables the USPTO to more effectively service its current customers while planning for the future.

The USPTO has developed a worksheet to collect the metrics concerning the use of the patent and trademark services and the public outreach efforts from the libraries. On the USPTO's behalf, the metrics are collected on a quarterly basis through a third-party vendor. The information is only collected electronically. The PTRCs are given a password to input their information.

II. Method of Collection

The metrics are submitted electronically to the USPTO.

III. Data

OMB Number: 0651-0068.

Form Number(s): N/A.

Type of Review: Revision of a currently approved collection.

Affected Public: Non-profit organizations.

Estimated Number of Respondents: 84 libraries, for 336 responses per year. The USPTO estimates that there will be 84 libraries reporting their metrics once per quarter, for a total of 336 responses per year.

Estimated Time per Response: The USPTO estimates that it will take the responding organizations approximately 30 minutes (0.50 hours) to gather the necessary information, prepare the worksheet, and submit it to the USPTO.

Estimated Total Annual Respondent Burden Hours: 168 hours.

Estimated Total Annual Respondent Cost Burden: $5,008.08. The USPTO expects that the information in this collection will be prepared by librarians, at an estimated hourly rate of $29.81. This is the mean hourly wage for librarians for colleges, universities, and professional schools as reported in the 2013 Bureau of Labor Statistics. Therefore, the USPTO estimates that the respondent cost burden for this collection will be approximately $5,008.08 per year.

Item | Estimated time for response (minutes) | Estimated annual responses | Estimated annual burden hours
PTRC Metric Worksheet | 30 | 336 | 168
Totals |  | 336 | 168

Estimated Total Annual Non-hour Respondent Cost Burden: $0. There are no fees or capital start-up, maintenance, operation, or postage costs for this collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: November 7, 2014.
Marcie Lovett,
Records Management Division Director, USPTO, Office of the Chief Information Officer.

[FR Doc. 2014-27139 Filed 11-14-14; 8:45 am]

BILLING CODE 3510-16-P